DEPARTMENT OF COMMERCE

[Docket T-1-2010]

Foreign-Trade Zones Board

Foreign-Trade Zone 22; Temporary/Interim Manufacturing Authority; LG Electronics Mobilecomm USA, Inc. (Cell Phones); Notice of Approval

On January 13, 2010, the Executive Secretary of the Foreign-Trade Zones (FTZ) Board filed an application submitted by the Illinois International Port District, grantee of FTZ 22, requesting temporary/interim manufacturing (T/IM) authority, on behalf of LG Electronics Mobilecomm USA, Inc. (LGEMU), to process cell phone kits under FTZ procedures within FTZ 22—Site 12, in Bolingbrook, Illinois.

The application was processed in accordance with T/IM procedures, as authorized by FTZ Board Orders 1347 (69 FR 52857, 8/30/04) and 1480 (71 FR 55422, 9/22/06), including notice in the Federal Register inviting public comment (75 FR 4344, January 27, 2010). The FTZ staff examiner reviewed the application and determined that it meets the criteria for approval under T/IM procedures. Pursuant to the authority delegated to the FTZ Board Executive Secretary in the above-referenced Board Orders, the application is approved, effective this date, until March 12, 2012, subject to the FTZ Act and the Board's regulations, including Section 400.28.

Dated: March 12, 2010.
Andrew McGilvray,
Executive Secretary.

[FR Doc. 2010-6272 Filed 3-19-10; 8:45 am]

BILLING CODE 3510-DS-P